DEPARTMENT OF DEFENSE

Office of the Secretary

[Transmittal Nos. 14-27]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-27 with attached transmittal and policy justification.

Dated: September 30, 2014.
Aaron Siegel,
Alternate OSD Federal Register Liaison Officer, Department of Defense.

BILLING CODE 5001-06-P

BILLING CODE 5001-06-C

Transmittal No. 14-27

Notice of Proposed Issuance of Letter of Offer Pursuant to Section 36(b)(1) of the Arms Export Control Act, as amended

(i) Prospective Purchaser: Thailand

(ii) Total Estimated Value:

Major Defense Equipment * | $55 million
Other | $34 million
TOTAL | $89 million
* as defined in Section 47(6) of the Arms Export Control Act

(iii) Description and Quantity or Quantities of Articles or Services under Consideration for Purchase: 9 UH-72A Lakota Helicopters, warranty, spare and repair parts, support equipment, communication equipment, publications and technical documentation, Aviation Mission Planning Station, personnel training and training equipment, U.S. Government and contractor technical and logistics support services, and other related elements of logistics support.

(iv) Military Department: Army (UAM)

(v) Prior Related Cases, if any: FMS case UAK-$54M-8Jan14

(vi) Sales Commission, Fee, etc., Paid, Offered, or Agreed to be Paid: None

(vii) Sensitivity of Technology Contained in the Defense Article or Defense Services Proposed to be Sold: None

(viii) Date Report Delivered to Congress: 26 Sep 14

POLICY JUSTIFICATION

Thailand—UH-72A Lakota Helicopters

The Government of Thailand has requested a possible sale of 9 UH-72A Lakota Helicopters, warranty, spare and repair parts, support equipment, communication equipment, publications and technical documentation, Aviation Mission Planning Station, personnel training and training equipment, U.S. Government and contractor technical and logistics support services, and other related elements of logistics support. The estimated cost is $89 million.

This proposed sale will contribute to the foreign policy and national security of the United States, by helping to improve the security of a major non-NATO ally.

This proposed sale will contribute to Thailand's goal of upgrading and modernizing its military forces with a new light utility helicopter capable of meeting requirements for rotary-wing transportation, while further enhancing interoperability between Thailand the U.S., and among other allies. Thailand will have no difficulty absorbing these helicopters into its armed forces.

The proposed sale of this equipment and support will not alter the basic military balance in the region.

The principal contractor will be EADS North America in Herndon, Virginia. There are no known offset agreements proposed in connection with this potential sale.

Implementation of this proposed sale will require ten contractor representatives to travel to Thailand for a period of five weeks for equipment deprocessing/fielding and system checkout.

There will be no adverse impact on U.S. defense readiness as a result of this proposed sale.

[FR Doc. 2014-23600 Filed 10-2-14; 8:45 am]

BILLING CODE 5001-06-P